DEPARTMENT OF JUSTICE

Notice of Lodging of Consent Decree Under the Comprehensive Environmental Response, Compensation, and Liability Act

Notice is hereby given that on December 8, 2011, a proposed Consent Decree in United States v. City of Boulder, Colorado, Honeywell International, Inc., and Tusco, Inc., Civil Action No. 11-cv-03178 WJM-MJW, was lodged with the United States District Court for the District of Colorado. The proposed Consent Decree, lodged on December 8, 2011, resolves the liability of defendants City of Boulder, Colorado, Honeywell International, Inc., and Tusco, Inc. (“Defendants”), for claims alleged in the Complaint filed on December 7, 2011, under Section 107(a) of the Comprehensive Environmental Response, Compensation and Liability Act (“CERCLA”), 42 U.S.C. 9607(a). In the Complaint, the United States sought recovery of response costs from the Defendants in connection with the Hendricks Mining and Milling Site (a/k/a Valmont Butte Site) North 63rd Street and Valmont Road in Boulder, Colorado (“the Site”). The proposed Consent Decree, lodged on December 8, 2011, requires the Defendants to pay $350,000 in response costs incurred in connection with the Site and resolves the Defendants' liability for such costs incurred through the date of lodging of the Consent Decree. The cleanup of the Site will be performed pursuant to plans approved under the Colorado Voluntary Cleanup Program and is not the subject of the Consent Decree.

The Department of Justice will receive comments relating to the proposed Consent Decree for a period of thirty (30) days from the date of this publication. Please address comments to the Assistant Attorney General, Environment and Natural Resources Division, by email to pubcomment-ees.enrd@usdoj.gov or regular mail to P.O. Box 7611, U.S. Department of Justice, Washington, DC 20044-7611, and refer to United States v. City of Boulder, Colorado, Honeywell International, Inc., and Tusco, Inc., D.J. Ref. 90-11-3-10118.

The Consent Decree may be examined at U.S. EPA Region VIII, 1595 Wynkoop Street, Denver, Colorado, 80202-1129. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. When requesting a copy from the Consent Decree Library, please enclose a check in the amount of $5.50 (25 cents per page reproduction cost) for the Consent Decree, payable to the U.S. Treasury or, if by email or fax, forward a check in that amount to the Consent Decree Library at the address above.

Robert Brook,
Assistant Chief, Environmental Enforcement Section, Environment and Natural Resources Division.

[FR Doc. 2011-32052 Filed 12-13-11; 8:45 am]

BILLING CODE 4410-15-P